DEPARTMENT OF ENERGY

Federal Energy Regulatory Commission

[Project No. 12585-002]

Golden Gate Energy Company; Notice of Intent To File License Application, Filing of Draft Application, Request for Waivers of Integrated Licensing Process Regulations Necessary for Expedited Processing of a Hydrokinetic Pilot Project License Application, and Soliciting Comments

October 10, 2008.

a. Type of Filing: Notice of Intent to File a License Application for an Original License for a Hydrokinetic Pilot Project.

b. Project No.: 12585-002.

c. Dated Filed: September 30, 2008.

d. Submitted By: Golden Gate Energy Company.

e. Name of Project: San Francisco Bay Tidal Energy Pilot Project.

f. Location: Within San Francisco Bay, in San Francisco and Marin Counties, California. The Proposed project site extends from beyond the western side of the Golden Gate Bridge into the Bay and around Angel and Alcatraz Islands before ending well short of the BART tunnel. No federal lands are occupied by the proposed project works or located within the proposed project boundary.

g. Filed Pursuant to: 18 CFR 5.3 of the Commission's regulations.

h. Potential Applicant Contact: Mike Hoover, Golden Gate Energy Company, 1785 Massachusetts Ave., NW., Suite 100, Washington, DC 20036; (202) 494-9232.

i. FERC Contact: Matt Buhyoff (202) 502-6824; or e-mail at matt.buhyoff@ferc.gov.

j. Golden Gate Energy Company has filed with the Commission: (1) A notice of intent to file an original hydrokinetic pilot project license application and a draft license application with monitoring plan; (2) a request for waivers of the integrated licensing process regulations necessary for expedited processing of a hydrokinetic project pilot license application; (3) a proposed process plan and schedule; (4) a request to be designated as the non-federal representative for sections 7 of the Endangered Species Act consultation; and (5) a request to be designated as the non-federal representative for section 106 consultation under the National Historic Preservation Act (collectively the Pre-Filing materials).

k. With this notice, we are soliciting comments on the Pre-Filing materials from paragraph j above, including the draft license application and monitoring plans. All comments should be sent to the address above in paragraph h. In addition, all comments (original and eight copies) must be filed with the Commission at the following address: Kimberly D. Bose, Secretary, Federal Energy Regulatory Commission, 888 First Street, NE., Washington, DC 20426. All filings with the Commission must include on the first page, the project name (San Francisco Bay Tidal Energy Pilot Project) and number (P-12585-002), and bear the heading “Comments on the proposed San Francisco Bay Tidal Energy Pilot Project.” Any individual or entity interested in submitting comments on the Pre-filing Materials must do so by October 30, 2008.

Comments may be filed electronically via the Internet in lieu of paper. The Commission strongly encourages electronic filings. See 18 CFR 385.2001(a)(1)(iii) and the instructions on the Commission's Web site (http://www.ferc.gov) under the “e-filing” link.

l. This notice does not constitute the Commission's approval of Golden Gate Energy Company's request to use the Pilot Project Licensing Procedures. Upon its review of the project's overall characteristics relative to the pilot project criteria, the draft application contents, and any comments filed, the Commission may seek additional information needed to continue processing the Pilot Project or reject the NOI, draft application, and Golden Gate Energy Company's request for waiver/process plan for an original hydrokinetic pilot project license.

m. The proposed San Francisco Bay Tidal Energy Pilot Project would be implemented in a four-phase deployment, including removal of hydrokinetic electrical power generators and associated hardware in San Francisco Bay, California. The final design of each phase would be dependent upon results of the previous phase. In Phase 1, dependent upon final design, the project would consist of: (1) A 51-foot-long floating barge supporting; (2) up to three experimental hydrokinetic units approximately 2-3 meters in diameter; and (3) appurtenant facilities. Phase 2 would consist of: (1) An anchored jack-up barge supporting; (2) hydrokinetic units approximately 5-7 meters in diameter; and (3) appurtenant facilities. Phase 3 would consist of (1) a 12kV transmission cable approximately 1.25 miles in total length. Approximately 0.75 mile of the cable would be buried in the marine environment and the remaining 0.5 mile of the cable would follow an existing on shore right-of-way; and (2) appurtenant facilities. Phase 4 consists of project removal and site restoration. The applicant estimates that the total average capacity of less than 1 megawatt.

n. A copy of the draft application and all Pre-filing Materials are available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

o. Pre-filing process schedule. The pre-filing process will be conducted pursuant to the following tentative schedule. Revisions to the schedule may be made as appropriate.

Milestone | Date
Comments on Pre-filing Materials due | Oct. 30, 2008.
Issuance of Meeting Notice (if appropriate) | Nov. 14, 2008.
Public Meeting/technical Conference (if appropriate) | Dec. 12, 2008.
Issuance of notice concluding Pre-filing process | Dec. 29, 2008.
Issuance of ILP Waiver request determination | Dec. 29, 2008.

p. Register online at http://ferc.gov/esubscribenow.htm to be notified via e-mail of new filing and issuances related to this or other pending projects. For assistance, contact FERC Online Support.

Kimberly D. Bose,
Secretary.

[FR Doc. E8-24664 Filed 10-16-08; 8:45 am]

BILLING CODE 6717-01-P